DEPARTMENT OF TRANSPORTATION

Federal Aviation Administration

14 CFR Part 39

[Docket No. FAA-2018-1019; Product Identifier 2018-NE-05-AD; Amendment 39-19622; AD 2019-08-01]

RIN 2120-AA64

Airworthiness Directives; RECARO Aircraft Seating GmbH & Co. KG

AGENCY: Federal Aviation Administration (FAA), DOT.

ACTION: Final rule; request for comments.

SUMMARY: We are adopting a new airworthiness directive (AD) for certain RECARO Aircraft Seating GmbH & Co. KG (RECARO) Model 3510A and 3510D passenger seats. This AD requires modification and re-identification of all affected RECARO model passenger seats. This AD was prompted by an analysis that the affected RECARO model passenger seats contain a seat pan assembly design that can trap a person using the seat to assist during an emergency evacuation. We are issuing this AD to address the unsafe condition on these products.

DATES: This AD is effective May 21, 2019.

The Director of the Federal Register approved the incorporation by reference of certain publications listed in this AD as of May 21, 2019.

We must receive comments on this AD by June 20, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC, 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this final rule, contact RECARO Aircraft Seating GmbH & Co. KG, Daimlerstrasse 21, 74523 Schwabisch Hall, Germany; phone: 49 791 503 7855; fax: 49 791 503 7935; email: technical.support@recaro-as.com. You may view this service information at the FAA, Engine & Propeller Standards Branch, 1200 District Avenue, Burlington, MA, 01803. For information on the availability of this material at the FAA, call 781-238-7759. It is also available on the internet at http://www.regulations.gov by searching for and locating Docket No. FAA-2018-1019.

Examining the AD Docket

You may examine the AD docket on the internet at http://www.regulations.gov by searching for and locating Docket No. FAA-2018-1019; or in person at Docket Operations between 9 a.m. and 5 p.m., Monday through Friday, except Federal holidays. The AD docket contains this final rule, the mandatory continuing airworthiness information (MCAI), the regulatory evaluation, any comments received, and other information. The street address for Docket Operations (phone: 800-647-5527) is listed above. Comments will be available in the AD docket shortly after receipt.

FOR FURTHER INFORMATION CONTACT: Dorie Resnik, Aerospace Engineer, Boston ACO Branch, FAA, 1200 District Avenue, Burlington, MA, 01803; phone: 781-238-7693; fax: 781-238-7199; email: dorie.resnik@faa.gov.

SUPPLEMENTARY INFORMATION:

Discussion

The European Union Aviation Safety Agency (EASA), which is the Technical Agent for the Member States of the European Community, has issued EASA AD 2017-0192, dated September 28, 2017 (referred to after this as “the MCAI”), to address an unsafe condition for the specified products. The MCAI states:

Analyses and test results have shown that the seat pan design of certain RECARO model 3510A and 3510D passenger seats, when installed next to a Type III over-wing emergency exit, is insufficiently stable to sustain the loads applied by a person who would use the seat as assistance means in case of an emergency evacuation. Body parts (e.g., knees and feet) could slide through and get trapped. This condition, if not corrected, could restrict or significantly delay an emergency evacuation, possibly resulting in injury to occupants.

To address this potential unsafe condition, RECARO issued SB 3510-25-609, SB 3510-25-752 and SB 3510-25-753, providing modification instructions to replace the seat pan and/or pan attachment package with a new one, that has a more robust design, and to re-identify modified seats with a different P/N.

For the reasons described above, this [EASA] AD requires modification of the affected seats and prohibits installation of any unmodified seat.

You may obtain further information by examining the MCAI in the AD docket on the internet at http://www.regulations.gov by searching for and locating Docket No. FAA-2018-1019.

Related Service Information Under 1 CFR Part 51

We reviewed RECARO Service Bulletin (SB) No. 3510-25-609, Original Issue, dated June 20, 2016; RECARO SB No. 3510-25-752, Original Issue, dated May 20, 2016; and RECARO SB No. 3510-25-753, Original Issue, dated June 23, 2016. RECARO SB No. 3510-25-609 describes procedures for removing the straps and installing two additional cable ties on the seat pan. RECARO SB No. 3510-25-752 describes procedures for removing the straps and replacing the seat pan assembly. RECARO SB No. 3510-25-753 describes procedures for removing the straps and installing a new seat pan assembly or installing two additional cable ties. This service information is reasonably available because the interested parties have access to it through their normal course of business or by the means identified in the ADDRESSES section.

FAA's Determination

This product has been approved by EASA, and is approved for operation in the United States. Pursuant to our bilateral agreement with the European Community, EASA has notified us of the unsafe condition described in the MCAI and service information referenced above. We are issuing this AD because we evaluated all the relevant information provided by EASA and determined the unsafe condition described previously is likely to exist or develop in other products of the same type design.

AD Requirements

This AD requires modification and re-identification of all affected RECARO model passenger seats.

FAA's Justification and Determination of the Effective Date

No domestic operators use this product. Therefore, we find good cause that notice and opportunity for prior public comment are unnecessary. In addition, for the reason stated above, we find that good cause exists for making this amendment effective in less than 30 days.

Comments Invited

This AD is a final rule that involves requirements affecting flight safety and was not preceded by notice and an opportunity for public comment. However, we invite you to send any written data, views, or arguments about this final rule. Send your comments to an address listed under the ADDRESSES section. Include the docket number FAA-2018-1019 and Product Identifier 2018-NE-05-AD at the beginning of your comments. We specifically invite comments on the overall regulatory, economic, environmental, and energy aspects of this final rule. We will consider all comments received by the closing date and may amend this final rule because of those comments.

We will post all comments we receive, without change, to http://www.regulations.gov, including any personal information you provide. We will also post a report summarizing each substantive verbal contact we receive about this final rule.

Costs of Compliance

We estimate that this AD affects no aircraft seats installed on airplanes of U.S. registry.

We estimate the following costs to comply with this AD:

Estimated Costs
Action | Labor cost | Parts cost | Cost per product | Cost on U.S. operators
Install the placard to re-identify P/N (All Series) | 0.1 work-hours × $85 per hour = $8.50 | $27 | $35.50 | $0
Series 383, 384, 389, 390, 392, 527, 592, 911, 942 Modify seats per RECARO SB No. 3510-25-609 | 0.2 work hours × $85 per hour = $17 | 12 | 29 | 0
Series 377 & 381 Modify seats per RECARO SB No. 3510-25-752 | 0.4 work hours × $85.00 = $34 | 477 | 511 | 0
Series 330, 347, 349, 364, and 549 Modify seats per RECARO SB No. 3510-25-753 | 0.4 work hours × $85 per hour = $34 | 546 | 580 | 0

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

This AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-08-01 RECARO Aircraft Seating GmbH & Co. KG: Amendment 39-19622; Docket No. FAA-2018-1019; Product Identifier 2018-NE-05-AD.

(a) Effective Date

This AD is effective May 21, 2019.

(b) Affected ADs

None.

(c) Applicability

(1) This AD applies to RECARO Aircraft Seating GmbH & Co. KG (RECARO) Model 3510A and 3510D passenger seats.

(2) These appliances are installed on, but not limited to, Airbus SAS Model A318, A319, and A320 airplanes.

(d) Subject

Joint Aircraft System Component (JASC) Code 2520, Passenger Compartment Equipment.

(e) Unsafe Condition

This AD was prompted by an analysis that the affected RECARO model passenger seats contain a seat pan assembly design that can trap a person using the seat to assist during an emergency evacuation. We are issuing this AD to prevent passenger entrapment in the event a person climbs on a seat to assist during an emergency evacuation. The unsafe condition, if not addressed, could result in possible passenger entrapment, injury, or delay in the case of emergency evacuation.

(f) Compliance

Comply with this AD within the compliance times specified, unless already done.

(g) Required Actions

Within 2,700 flight hours (FHs) or 945 flight cycles (FCs), whichever occurs first, after the effective date of this AD, modify the affected passenger seat and re-identify each modified passenger seat as follows:

(1) Review the seat part numbers (P/Ns) identified in Table 1 to paragraph (g)(1) of this AD to identify the applicable service bulletin (SB).

BILLING CODE 4910-13-P

BILLING CODE 4910-13-C

(2) For seats identified by RECARO SB No. 3510-25-609, Original Issue, dated June 20, 2016 (“RECARO SB No. 3510-25-609”):

(i) Review Planning Information, paragraph 1.A., Tables 2 and 3, in RECARO SB No. 3510-25-609, to determine if a modification is required for the specific P/N seat.

(ii) Follow the Accomplishment Instructions, paragraphs 3.A., 3.B., 3.C., 3.D., and 3.E. in RECARO SB No. 3510-25-609.

(3) For seats identified by RECARO SB No. 3510-25-752, Original Issue, dated May 20, 2016 (“RECARO SB No. 3510-25-752”):

(i) Review Planning Information, paragraph 1.A., Tables 2 and 3, in RECARO SB No. 3510-25-752, to determine if a modification is required for the specific P/N seat.

(ii) Follow the Accomplishment Instructions, paragraphs 3.A., 3.B., 3.C., 3.D., and 3.E. in RECARO SB No. 3510-25-752.

(4) For seats identified by RECARO SB No. 3510-25-753, Original issue, dated June 23, 2016 (“RECARO SB No. 3510-25-753”):

(i) Review Planning Information, paragraph 1.A., Tables 2 and 3, in RECARO SB No. 3510-25-753, to determine the required modification for the specific P/N seat.

(ii) Follow the Accomplishment Instructions, paragraphs 3.A., 3.B., 3.C., 3.D., and 3.E. in RECARO SB No. 3510-25-753.

(h) Installation Prohibition

After the effective date of this AD, do not install an affected RECARO model passenger seat on any aircraft, unless the seat has been modified and re-identified in accordance with paragraph (g)(2), (3), or (4) of this AD.

(i) Alternative Methods of Compliance (AMOCs)

(1) The Manager, Boston ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j)(1) of this AD.

(2) Before using any approved AMOC, notify your appropriate principal inspector, or lacking a principal inspector, the manager of the local flight standards district office/certificate holding district office.

(j) Related Information

(1) For more information about this AD, contact Dorie Resnik, Aerospace Engineer, Boston ACO Branch, FAA, 1200 District Avenue, Burlington, MA 01803; phone: 781-238-7693; fax: 781-238-7199; email: dorie.resnik@faa.gov.

(2) Refer to European Union Aviation Safety Agency (EASA) AD 2017-0192, dated September 28, 2017, for more information. You may examine the EASA AD in the AD docket on the internet at http://www.regulations.gov by searching for and locating it in Docket No. FAA-2018-1019.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) RECARO Service Bulletin (SB) No. 3510-25-609, Original issue, dated June 20, 2016.

(ii) RECARO SB No. 3510-25-752, Original issue, dated May 20, 2016.

(iii) RECARO SB No. 3510-25-753, Original issue, dated June 23, 2016.

(3) For RECARO Aircraft Seating GmbH & Co. KG service information identified in this AD, contact RECARO Aircraft Seating GmbH & Co. KG, Daimlerstrasse 21, 74523 Schwabisch Hall, Germany; phone: 49 791 503 7855; fax: 49 791 503 7935; email: technical.support@recaro-as.com.

(4) You may view this service information at FAA, Engine & Propeller Standards Branch, 1200 District Avenue, Burlington, MA 01803. For information on the availability of this material at the FAA, call 781-238-7759.

(5) You may view this service information that is incorporated by reference at the National Archives and Records Administration (NARA). For information on the availability of this material at NARA, call 202-741-6030, or go to: http://www.archives.gov/federal-register/cfr/ibr-locations.html.

Issued in Burlington, Massachusetts, on May 1, 2019.
Robert J. Ganley,
Manager, Engine and Propeller Standards Branch, Aircraft Certification Service.

[FR Doc. 2019-09184 Filed 5-3-19; 8:45 am]

BILLING CODE 4910-13-P